FEDERAL COMMUNICATIONS COMMISSION

47 CFR Part 25

[IB Docket No. 21-456; Report No. 3200; FR ID 166483]

Petition for Reconsideration of Action in Rulemaking Proceeding

AGENCY: Federal Communications Commission.

ACTION: Petition for Reconsideration.

SUMMARY: Petition for Reconsideration (Petition) has been filed in the Commission's proceeding by Kimberly Baum, on behalf of WorldVu Satellites Limited.

DATES: Oppositions to the Petition must be filed on or before September 12, 2023. Replies to oppositions must be filed on or before September 22, 2023.

ADDRESSES: Federal Communications Commission, 45 L Street NE, Washington, DC 20554.

FOR FURTHER INFORMATION CONTACT: Clay DeCell at (202) 418-0803 or Clay.DeCell@fcc.gov.

SUPPLEMENTARY INFORMATION: This is a summary of the Commission's document, Report No. 3200, released August 22, 2023. The full text of the Petition can be accessed online via the Commission's Electronic Comment Filing System at: https://apps.fcc.gov/ecfs/. The Commission will not send a Congressional Review Act (CRA) submission to Congress or the Government Accountability Office pursuant to the CRA, 5 U.S.C. 801(a)(1)(A), because no rules are being adopted by the Commission.

Subject: In the Matter of Revising Spectrum Sharing Rules for Non-Geostationary Orbit, Fixed-Satellite Service Systems (IB Docket No. 21-456).

Number of Petitions filed: 1.

Federal Communications Commission.
Katura Jackson,
Federal Register Liaison Officer.

[FR Doc. 2023-18417 Filed 8-25-23; 8:45 am]

BILLING CODE 6712-01-P